Proclamation 10777 of June 14, 2024

Father's Day, 2024

By the President of the United States of America

A Proclamation

Every Father's Day, we pay tribute to the fathers and father figures in our lives who shower us with unconditional love and support. These men shape our character, help us reach our full potential, and believe in us so that we can believe in ourselves. Today, we honor their tremendous sacrifices, their unwavering devotion, and their tireless work to build better futures for our families.

When I was growing up, my father, Joseph Robinette Biden Sr., taught me lifelong values that I have tried to pass down to my own children and grandchildren. Among these many values, he taught me that every person deserves to be treated with dignity and respect. He taught me that our character is not measured by how many times or how hard we get knocked down; rather, it is measured by how quickly we get back up. He taught me that a job is not just about a paycheck—it is about dignity, pride, and self-worth. All these principles have not only shaped my perspective in life—they are also at the heart of my commitment to building an economy where every father can thrive.

That commitment begins by building an economy from the middle out and bottom up. Toward that aim, my Administration is creating new jobs in manufacturing, construction, clean energy, and more. We are rebuilding American infrastructure with American products built by American workers. We are creating good-paying jobs in people's hometowns so they can support a family without having to move.

At the same time, we also lowered the cost of health insurance premiums for millions of families, giving them some breathing room. We are cutting the cost of prescription drugs, giving Medicare the power to negotiate lower prices just like the Department of Veterans Affairs does for our veterans. We are trying hard to make child care more affordable and paid leave more accessible. We are working to ensure that our elderly fathers and grandfathers can live their lives with the dignity they deserve by protecting Social Security, Medicare, and Medicaid while strengthening access to home care services.

This Father's Day, my heart is also with all the children who have tragically lost a father figure and the fathers who have tragically lost a child. Though the grieving process never truly ends, I know from my own experience that the day will come when the memory of your loved one brings a smile to your lips before it brings a tear to your eye. As we honor all that they meant to us, we recommit to safeguarding their legacies and building a future of possibilities for generations to come. Today and every day, let us remember to cherish the precious moments we have with our dads, stepdads, grandfathers, and father figures and to thank them for all they do to enrich our lives, our families, and our Nation.

NOW, THEREFORE, I, JOSEPH R. BIDEN JR., President of the United States of America, in accordance with a joint resolution of the Congress approved April 24, 1972, as amended (36 U.S.C. 109), do hereby proclaim June 16, 2024, as Father's Day. I direct the appropriate officials of the Government to display the flag of the United States on all Government buildings on this day. Let us honor our fathers, living and deceased, and show them the love and gratitude they deserve.

IN WITNESS WHEREOF, I have hereunto set my hand this fourteenth day of June, in the year of our Lord two thousand twenty-four, and of the Independence of the United States of America the two hundred and forty-eighth.

[FR Doc. 2024-13670

Filed 6-18-24; 8:45 am]

Billing code 3395-F4-P